ENVIRONMENTAL PROTECTION AGENCY

[FRL-9811-2]

Standards of Performance for New Stationary Sources, National Emission Standards for Hazardous Air Pollutants, and the Stratospheric Ozone Protection Program: Recent Posting to the Applicability Determination Index (ADI) Database System of Agency Applicability Determinations, Alternative Monitoring Decisions, and Regulatory Interpretations

AGENCY: Environmental Protection Agency (EPA).

ACTION: Notice of availability.

SUMMARY: This notice announces applicability determinations, alternative monitoring decisions, and regulatory interpretations that EPA has made under the New Source Performance Standards (NSPS); the National Emission Standards for Hazardous Air Pollutants (NESHAP); and/or the Stratospheric Ozone Protection Program.

FOR FURTHER INFORMATION CONTACT: An electronic copy of each complete document posted on the Applicability Determination Index (ADI) database system is available on the Internet through the Office of Enforcement and Compliance Assurance (OECA) Web site at: http://www.epa.gov/compliance/monitoring/programs/caa/adi.html. The letters and memoranda on the ADI may be located by control number, date, author, subpart, or subject search. For questions about the ADI or this notice, contact Maria Malave at EPA by phone at: (202) 564-7027, or by email at: malave.maria@epa.gov. For technical questions about individual applicability determinations or monitoring decisions, refer to the contact person identified in the individual documents, or in the absence of a contact person, refer to the author of the document.

SUPPLEMENTARY INFORMATION:

Background

The General Provisions of the NSPS in 40 Code of Federal Regulations (CFR) part 60 and the General Provisions of the NESHAP in 40 CFR part 61 provide that a source owner or operator may request a determination of whether certain intended actions constitute the commencement of construction, reconstruction, or modification. EPA's written responses to these inquiries are commonly referred to as applicability determinations. See 40 CFR 60.5 and 61.06. Although the NESHAP part 63 regulations [which include Maximum Achievable Control Technology (MACT) standards] and § 111(d) of the Clean Air Act (CAA) contain no specific regulatory provision providing that sources may request applicability determinations, EPA also responds to written inquiries regarding applicability for the part 63 and § 111(d) programs. The NSPS and NESHAP also allow sources to seek permission to use monitoring or recordkeeping that is different from the promulgated requirements. See 40 CFR 60.13(i), 61.14(g), 63.8(b)(1), 63.8(f), and 63.10(f). EPA's written responses to these inquiries are commonly referred to as alternative monitoring decisions. Furthermore, EPA responds to written inquiries about the broad range of NSPS and NESHAP regulatory requirements as they pertain to a whole source category. These inquiries may pertain, for example, to the type of sources to which the regulation applies, or to the testing, monitoring, recordkeeping, or reporting requirements contained in the regulation. EPA's written responses to these inquiries are commonly referred to as regulatory interpretations. EPA currently compiles EPA-issued NSPS and NESHAP applicability determinations, alternative monitoring decisions, and regulatory interpretations, and posts them to the ADI on a quarterly basis. In addition, the ADI contains EPA-issued responses to requests pursuant to the stratospheric ozone regulations, contained in 40 CFR part 82. The ADI is an electronic index on the Internet with over one thousand EPA letters and memoranda pertaining to the applicability, monitoring, recordkeeping, and reporting requirements of the NSPS, NESHAP, and stratospheric ozone regulations. Users can search for letters and memoranda by date, office of issuance, subpart, citation, control number, or by string word searches.

Today's notice comprises a summary of 63 such documents added to the ADI on March XX, 2013. This notice lists the subject and header of each letter and memorandum, as well as a brief abstract of the letter or memorandum. Complete copies of these documents may be obtained from the ADI through the OECA Web site at: www.epa.gov/compliance/monitoring/programs/caa/adi.html

Summary of Headers and Abstracts

The following table identifies the database control number for each document posted on the ADI database system on March XX, 2013; the applicable category; the section(s) and/or subpart(s) of 40 CFR part 60, 61, or 63 (as applicable) addressed in the document; and the title of the document, which provides a brief description of the subject matter.

We have also included an abstract of each document identified with its control number after the table. These abstracts are provided solely to alert the public to possible items of interest and are not intended as substitutes for the full text of the documents. This notice does not change the status of any document with respect to whether it is “of nationwide scope or effect” for purposes of CAA § 307(b)(1) For example, this notice does not convert an applicability determination for a particular source into a nationwide rule. Neither does it purport to make a previously non-binding document binding.

ADI Determinations Uploaded on March xx, 2013
Control No. | Categories | Subparts | Title
M120002 | MACT | LLL | Performance Test Frequency Waiver Request.
M120003 | MACT | RRR | Performance Test Waiver Request—Group 1 Furnace.
M120005 | MACT | DDDD | Request For Routine Control Device Maintenance Exemption.
M120006 | MACT | DDDD | Performance Test Waiver Requests.
M120007 | MACT, NESHAP | HH, V | Alternative Monitoring Plan For Ethylene Glycol Service.
M120008 | NSPS, MACT | J, UUU | Alternative Monitoring Plan For Opacity at Fluid Catalytic Cracking Units.
1200005 | NSPS | H | Alternative Monitoring Plan for Opacity at—Sulfuric Acid Plant.
1200006 | NSPS | A, J | Alternate Span Values for Sulfur Dioxide Continuous Emission Monitoring Systems.
1200016 | NSPS | J | Alternative Monitoring Plan for Platformer Regeneration Process.
1200017 | NSPS | J | Alternative Monitoring Plan for Refining Tank Truck Loading Rack Vent Stream.
1200018 | NSPS | J | Alternative Monitoring Plan for Hydrogen Sulfide in Refining-Wastewater API Separator Off-Gas Vent Stream.
M120010 | MACT | NNNNN | Alternative Monitoring Plan For pH for Water Absorbers at Aqueous Hydrochloric Acid Production.
M120011 | MACT | NNNNN | Modification of an Approved Alternative Monitoring Plan For Caustic Scrubber.
1200019 | NSPS | NNN, RRR | Alternative Monitoring Plan for Vent Stream Flow Monitoring Requirements at Distillation Columns—Implementing Provisions of NSPS Subpart RRR in Lieu of Subpart NNN.
1200020 | NSPS | NNN, RRR | Alternative Monitoring Plan for Vent Steam Flow Monitoring Requirements at Distillation Columns—Implementing Provisions of NSPS Subpart RRR in Lieu of Subpart NNN.
1200021 | NSPS | NNN, RRR | Modification to an Approved Alternative Monitoring Plan for Vent Stream Flow Monitoring Requirements at Distillation Columns—Implementing Provisions of NSPS Subpart RRR in Lieu of Subpart NNN.
M120014 | NSPS, MACT | J, UUU | Modification of an Approved Alternative Monitoring Plan For Opacity at Fluid Catalytic Cracking Units.
Z120002 | NESHAP | FF | Wastewater Upstream of Sour Water Stripper.
1200026 | NSPS | J | Alternative Monitoring Plan For Opacity at Fluid Catalytic Cracking Units.
M120016 | MACT | TTTTTT | Performance Testing Waiver for an Identical Process Control Equipment.
1200029 | NSPS | NNN | Flow Monitoring Requirements—Alternate Control Devices Under Subpart NNN.
1200034 | NSPS | CCCC | Applicability to a Thermal Desorption System for the Treatment of Diesel Contaminated Drill Cuttings from Deep Natural Gas Wells.
1200035 | NSPS | D | Alternative Monitoring Plan for Opacity.
M120019 | MACT | S | Alternate Monitoring Plan for Condensate Treatment.
1200036 | NSPS | D | Alternative Monitoring Plan for Opacity.
1200037 | NSPS | NNN, RRR | Alternative Monitoring Plan-Flow Monitoring Requirements for Vent Stream at Distillation Column—Implementing Provisions of NSPS Subpart RRR in Lieu of Subpart NNN.
1200045 | NSPS | A, UUU | Applicability to Kaolin Processing and Catalyst Production.
1200050 | NSPS | Y | Applicability to Mechanical Vents on Buildings.
1200051 | NSPS | Dc | Applicability to Boiler Derate.
1200054 | NSPS | WWW | Request for Alternative Compliance Remedy/Schedule for Landfill Methane Surface Emissions.
1200055 | NSPS | WWW | Request for Alternative Compliance Remedy/Schedule for Landfill Methane Surface Emissions.
1200060 | NSPS, NESHAP | J, UUU | Alternative Monitoring Plan for Opacity Monitoring System.
1200061 | NSPS | A | Alternate RATA Protocol in Relation to Flares Vent Streams—Withdrawal of Previous Approval.
1200063 | NSPS | Kb | Requirements for Degassing and Inspecting Floating Roof Tanks.
M120022 | MACT | DDDDD | Site-specific Fuel Analysis for Utility Boiler.
1200065 | NSPS | J | Low-Sulfur Rule Exemption Approval Supersedes Refinery Approved Alternative Monitoring Plan for Hot Oil Drum Off-Gas Vent Stream.
1200066 | NSPS | J | Low-Sulfur Rule Exemption Approval Supersedes Refinery Approved Alternative Monitoring Plan—for Knock-out Drum Off-Gas Vent Stream.
1200067 | NSPS | J | Low-Sulfur Rule Exemption Approval Supersedes Refinery Alternative Monitoring Plan for a Caustic Oxidation Unit Off-Gas Vent Stream.
1200068 | NSPS | J | Low-Sulfur Rule Exemption Approval Supersedes Refinery Approved Alternative Monitoring Plan for Loading Racks Off-Gas Vent Streams.
1200069 | NSPS | J | Low-Sulfur Rule Exemption Approval Supersedes Refinery Approved Refinery Alternative Monitoring Plan for a Benzene Recovery Unit Off-Gas Vent Stream.
1200070 | NSPS | J | Low-Sulfur Rule Exemption Approval Supersedes Refinery Approved Alternative Monitoring Plan—for Refinery Marine Vessel Loading Vapors.
M120023 | MACT | BBBBBB | Applicability of Rule to Storage and Transfer of Transmix.
1200071 | NSPS | J | Low Sulfur Rule Exemption for Process Unit Vent Streams Combusted in Flare.
M120024 | MACT, NSPS | CC, G, Kb | Request for Interpretation of Recordkeeping Requirements as Applied to Storage Tanks Inspections.
1200072 | NSPS | J | Alternative Monitoring Plan Request for a Refinery Flare 2.
1200073 | NSPS | J | Low Sulfur Rule Exemption Approval Supersedes Alternative Monitoring Plan for Truck and Railcar Loading Vent Off-Gas Stream.
1200076 | NSPS | J | Low Sulfur Rule Exemption Approval Supersedes Alternative Monitoring Plan for Vent Streams.
1200077 | NSPS | J | Low Sulfur Rule Exemption Approval Supersedes Alternative Monitoring Plan for Refinery Pit Collection Header Vent Stream.
1200078 | NSPS | J | Low Sulfur Rule Exemption Approval Supersedes Alternative Monitoring Plan for Refinery Storage Tank and Loading Arm Vent Streams.
1200079 | NSPS | J | Low Sulfur Rule Exemption Approval Supersedes Alternative Monitoring Plan for Refinery Pit and Loading Arm Vent Streams.
1200081 | NSPS | J | Low Sulfur Rule Exemption Approval Supersedes Alternative Monitoring Plan for Refinery Pressure Swing Absorber Vent Stream.
1200084 | NSPS | UUU | Alternative Monitoring Request For Proposed Kilns.
1200085 | NSPS | UUU | Applicability to Mixer/Dryer Processing a Very Wet Alumina Slurry.
M120025 | MACT | JJJJ | Alternative Monitoring Request to Meet Calibration Verification Requirements for Catalytic Oxidizers.
M120028 | MACT, NSPS | A, A, CC | Alternative Monitoring Request of Acoustic Flare Pilot Flame at Utility Flare.
M120030 | MACT | WWWWWW | Applicability to Chrome Etching Process Meeting Definition of Electropolishing.
1200089 | NSPS | J | Low Sulfur Rule Exemption Approval Supersedes Alternative Monitoring Plan for Refinery Pit Collection Header Vent Stream.
M120031 | MACT | UUUU | Categorization of Coal-Fired Utility Steam Engines.
M120032 | MACT | RRR | Applicability to Secondary Aluminum Production Furnace Switching Operating Category From Group 1 to Group 2.
1200091 | NSPS | AAA | Regulatory Interpretation on Wood Heater Remote Certification Testing.
Z120004 | MACT, NESHAP | ZZZZ | RICE NESHAP One-Year Compliance Extension for Diesel Engines.
1200092 | NSPS | IIII | National Security Exemption for Non-Road Diesel Engines at Air Force Base.
WDS-145 | Woodstoves |  | Canadian Standards Administration B415.1 Alternative Test Method Request for Generating Thermal Efficiency Ratings.

Abstracts

Abstract for [M120002]

Q1: Does EPA approve Alamo Cement Company's (Alamo) waiver request of the next performance test for monitoring of dioxin/furans (D/F) at the Alamo facility located in San Antonio, Texas, since similar requests have been approved for other facilities?

A1: No. EPA does not approve Alamo's performance test waiver request based upon the facility's specific circumstances. EPA notes that applicability determinations are site-specific and are decided on a case-by-case basis.

Q2: Does EPA approve a waiver for less frequent testing, at five-year intervals instead of the 30-month interval required by 40 CFR 63.1349(d) of NESHAP subpart LLL, based on economic impracticality of the frequency of testing and consideration of previous performance test data demonstrating high performance compliance?

A2: No. The EPA does not approve conducting performance tests for dioxin/furans at a frequency less than the 30-month interval required under the final rule. This frequency is necessary to determine actual D/F levels and assess compliance. The emission testing is also necessary to establish operating temperature limits.

Abstract for [M120003]

Q1: Does EPA approve a waiver for a 90-day time extension for conducting a performance test, required under NESHAP MACT 40 CFR part 63 subpart RRR, at the Alumax Mill Products facility (Alumax), located in Texarkana, Texas based on availability of scrap and changes in ambient temperature only?

A1: No. EPA does not approve Alumax's request for a 90-day time extension to conduct performance testing in accordance with 40 CFR part 63 subpart RRR at the Texarkana facility, as the rationale provided does not justify its approval. Alumax should have been able to obtain sufficient amounts of the type of scrap normally melted in the furnaces to be able to test prior to the May 2009 deadline. Also, any change in ambient temperatures between May and August should have minimal effect on the inlet temperatures at the lime-injected fabric filters, since the temperatures are measured after the furnaces.

Abstract for [M120005]

Q1: Does EPA approve a routine control device maintenance exemption (RCDME) under 40 CFR part 63 subpart DDDD, at the Boise Florien Plywood Plant (Boise) in Florien, Louisiana?

A1: Yes. EPA approves a RCDME for Boise under NESHAP subpart DDDD based on the specific information submitted to justify the request, as explained in the EPA response letter, and it being submitted 30 days before the compliance date of October 1, 2007, for NESHAP subpart DDDD. The approved RCDME must be incorporated by reference and attached to the facility's Title V permit.

Abstract for [M120006]

Q1: Does EPA approve a performance test waiver for existing regenerative thermal oxidizers (RTO) at Boise Florien and Oakdale Plywood Plants (Boise) in Louisiana subject to MACT subpart DDDD?

A1: Yes. EPA approves the performance test waiver for the RTOs pursuant to 40 CFR 63.7(2)(e)(iv) and 63.7(h)(2) of the General Provisions. Based upon the information submitted, EPA determined that the 2003 performance tests satisfy the MACT requirements.

Abstract for [M120007]

Q1: Does EPA approve an Alternative Monitoring Plan (AMP) consisting of quarterly visual inspections of ancillary equipment in the cooling jacket water service, addressing a mixture of ethylene glycol and water, in lieu of conducting EPA Reference Method 21 field analyzer measurements for BP America Production Company Compressor Station in Sunray, Texas, subject to NESHAP subpart HH?

A1: Yes. EPA approves the AMP for ancillary equipment for the cooling jacket water service at the Sunray Compressor Station. The request is justified since it is difficult to obtain a reproducible and useful response factor as required in Method 21 due to ethylene glycol's low volatility (vapor pressure 0.06 mm Hg at 20 degrees C), as described in EPA report EPA-453/R-95-017, Protocol for Equipment Leak Emission Estimates. It is an acceptable alternative monitoring to meet NESHAP subpart HH requirements since visual evidence of ethylene glycol liquid on or dripping from the equipment would indicate an equipment leak, and repair would be conducted to meet requirements of NESHAP part 61, subpart V.

Abstract for [M120008]

Q1: Will EPA modify the prior approved alternative monitoring plan (AMP), pertaining to the use of parametric monitoring of the Fluid Catalytic Cracking Unit (FCCU) Wet Gas Scrubber (WGS) in lieu of monitoring opacity via continuous opacity monitoring system (COMS), due to moisture interference on opacity readings in the stack for the Chalmette Refining facility in Louisiana?

A1: Yes. EPA will conditionally approve a modified AMP to incorporate changes necessary, due to the physical changes to occur in accordance with the consent decree. However, a new performance test is necessary to establish new Operating Parameter Limits (OPLs) for the WGS. The performance test will be conducted at representative operating conditions for the FCCU Regenerator and WGS, whereby worst-case emissions are anticipated.

Q2: Will EPA consider further adjustment to the OPLs for the scrubber due to turndown operations, where the gas flow rate from the FCCU Regenerator to the WGS decreases?

A2: Yes. EPA will consider setting OPLs that will account for turndown operations decreased gas flow. OPLs will be set based upon performance test results.

Abstract for [1200005]

Q1: Does EPA approve an Alternative Monitoring Plan (AMP) for conducting alternate opacity measurements during maintenance flushing of a sulfur dioxide (SO2) wet scrubber at Chemtrade's Sulfuric Acid Plant located in Tulsa, Oklahoma, subject to NSPS subpart H?

A1: No. EPA does not approve the proposed AMP to monitor sulfuric acid concentration during scrubber flushing, and to conduct Method 9 opacity readings if the COMS showed measurements above 10 percent. Under 40 CFR 60.83, emissions that “exhibit 10 percent opacity, or greater” are considered a violation. In addition, Chemtrade did not provide the necessary process unit and scrubber operating data to establish a direct correlation of production process acid concentrations to opacity readings at the scrubber stack. This decision does not preclude Chemtrade from considering the provision of 40 CFR 60.11(e)(8) to pursue approval of an alternative opacity limitation during scrubber flushing via performance testing. To establish an appropriate alternate opacity standard for the scrubber during flushing, a performance test would include mass emission rate determinations for SO2 and acid mist during typical operation and during scrubber flushing to demonstrate compliance with NSPS subpart H emission standards at all times.

Abstract for [1200006]

Q1: Does EPA approve an alternate span value for a sulfur dioxide (SO2) continuous emissions monitoring system (CEMS) for wet gas scrubbers (WGS) on a fluidized catalytic cracking unit (FCCU) at the CITGO Petroleum Corporation refinery at Lake Charles in Louisiana, subject to NSPS Subparts A and J?

A1: Yes. EPA, in coordination with Louisiana Department of Environmental Quality, conditionally approves the change of each FCCU WGS Sulfur Dioxide (S02) CEMS span value from 600 to 100 ppmv, for the CITGO's Lake Charles Refinery. This alternative is acceptable because Citgo determined that the actual, lower outlet SO2 concentrations at the FCCU WGSs would warrant a reduction of the span value to 100 ppmvd, so that the SO2 CEMS could pass the annual relative accuracy test audits (RATA) required by NSPS Subpart A Appendix F. Citgo will comply with 40 CFR 60.1 04(b Xl) of NSPS subpart J by maintaining emissions to the atmosphere from the outlet (stack) of each FCCU's wet gas scrubber (WGS) below 50 parts per million by volume (ppmv). This and other conditions for the AMP approval are specified in the EPA response letter.

Abstract for [1200016]

Q1: Does EPA approve an Alternative Monitoring Plan (AMP) for monitoring hydrogen sulfide (H2S) in lieu of installing a continuous emission monitoring system (CEMS) for the Platformer Regeneration Process vent stream at the Delek Refining plant located in Tyler, Texas, subject to NSPS subpart J?

A1: Yes. EPA conditionally approves the AMP for the off-gas vent stream from the Platformer Regenerator that is vented to a hydrochloric acid (HCl) scrubber, and then routed to the burners in the heater. The vent stream is inherently low in sulfur content due to the feed stream characteristics and operational controls used in the Platformer Regenerator Process. The parametric monitoring conditions for AMP approval are specified in the EPA response letter.

Abstract for [1200017]

Q1: Does EPA approve an Alternative Monitoring Plan (AMP) for monitoring hydrogen sulfide (H2S) in lieu of installing a continuous emission monitoring system (CEMS) at the Delek Refining Tank Truck Loading Rack Flare at the Tyler, Texas refinery, subject to NSPS subpart J?

A1: Yes. EPA conditionally approves the AMP for the Tank Truck Loading Rack off-gas vent stream. In accordance with EPA's Alternative Monitoring Plan for NSPS subpart J Refinery Fuel Gas Guidance, Delek provided data and information that demonstrated the vent stream is inherently low in sulfur content. Delek does not anticipate any new product specifications with sulfur content higher than the ranges provided to EPA in their AMP submittal. The EPA response letter specifies the parametric monitoring conditions for AMP approval.

Abstract for [1200018]

Q1: Does EPA approve an Alternative Monitoring Plan (AMP) for monitoring hydrogen sulfide (H2S) in lieu of installing a continuous emission monitoring system (CEMS) for Wastewater API Separator Unit Operations off-gas vent streams that are combusted in the wastewater API separator flare at the Delek Refining facility in Tyler, Texas, subject to NSPS subpart J?

A1: No. EPA does not approve Delek's proposed AMP for the off-gas vent streams from the Wastewater API separator Unit Operations. Delek's proposed AMP does not meet the AMP requirements under NSPS subpart J-Refinery Fuel Gas Guidance. Delek did not provide the necessary data and information to justify the AMP request. Specifically, Delek did not provide a correlation between inherently low and stable H2S content in the exhaust gas steam in relation to those process parameters proposed in the AMP for the treated wastewater streams. Piping and instrumentation drawings were not provided, as requested, to differentiate between the various wastewater streams and to show specific sampling points being utilized and proposed. Additionally, Delek did not provide the information for all process parameters monitored for the various process units to ensure inherently low and stable H2S content of the off-gas vent stream to be combusted at the flare. The high target levels of measured H2S in the wastewater were excessive for consideration of an AMP for the off-gas vent stream.

Abstract for [M120010]

Q1: Does EPA approve a waiver to monitor only the liquid flow rate and not pH through absorbers used to control hydrochloric acid (HCl) emissions at the Dow Chemical Company Aqueous Hydrochloric Acid Production facility in Freeport, Texas, subject to MACT subpart NNNNN?

A1: No. EPA disapproves the waiver request based on insufficient evidence to demonstrate that monitoring liquid flow alone is sufficient to determine the effectiveness of the absorbers. EPA believes that more than one parameter should be monitored to provide a more complete determination of control performance. For example, corrosion or erosion of the spray nozzles and channeling within the packing could affect gas-liquid distribution within an absorber, which decreases its efficiency, yet may not result in a decrease in the liquid flow rate. In such instances, where the absorber is operating less efficiently and only liquid flow rate is monitored, it is possible to exceed the emission standard while still demonstrating compliance by meeting the minimum flow rate.

Abstract for [M120011]

Q1: Does EPA approve a modification of an Alternative Monitoring Plan (AMP) to remove the 3 percent upper caustic concentration operating limit parameter (OPL) on a scrubber used to control hydrochloric acid (HCl) emissions at the Dow Chemical Company mercaptan derivative process located in Freeport (Dow Freeport), Texas, subject to MACT subpart NNNNN?

A1: Yes. EPA conditionally approves modification of the AMP that allows a waiver of the 3 percent upper caustic concentration limit for the Dow Freeport mercaptan derivative process. EPA agrees that it is unnecessary to maintain an upper limit for caustic concentration to demonstrate compliance, as more caustic concentration would provide greater potential to reduce HCl emissions. Therefore, the waiver is approved as long as the scrubber recirculation caustic concentration is at a minimum of 1.6 percent of sodium hydroxide and the minimum flow rate is at 45 gallons per minute.

Abstract for [1200019]

Q1: Does EPA approve an Alternative Monitoring Plan (AMP) for vent stream flow monitoring for specific distillation columns and associated flares used as a control device to implement NSPS subpart RRR testing, monitoring, and recordkeeping provisions in lieu of complying with corresponding provisions of NSPS subpart NNN, with the exception of small vent and drain valves utilized for maintenance events, for Equistar Chemicals facility (Equistar), Channelview Chemical Complex, located in Texas?

A1: Yes. EPA conditionally approves the Equistar AMP request to implement NSPS subpart RRR for testing, monitoring, and recordkeeping provisions in lieu of complying with corresponding provisions of NSPS subpart NNN for specific distillation columns vent streams routed to unit flares without any by-pass lines. In order to ensure that affected vent streams are routed to appropriate control devices, Equistar Channelview Chemical Complex is required to maintain a schematic diagram of the affected vent streams, collection system(s), fuel systems, control devices, and bypass systems as part of the initial report submitted in accordance with 40 CFR section 60.705(b) of subpart RRR. EPA noted in its approval that the small vent and drain valves utilized by Equistar Channelview Chemical Complex for maintenance events are not an exception under either NSPS subpart NNN or NSPS Subpart RRR. Therefore, flow must be monitored during maintenance events at these locations in accordance with NSPS subpart RRR, because such components act as bypass valves during such events (i.e., flow is diverted away from the control device).

Abstract for [1200020]

Q1: Does EPA approve an Alternative Monitoring Plan (AMP) for vent stream flow monitoring for specific distillation columns and associated flares to implement NSPS subpart RRR testing, monitoring, and recordkeeping provisions in lieu of complying with corresponding provisions of NSPS subpart NNN, with the exception of small vent and drain valves utilized for maintenance events, for Equistar Chemicals (Equistar) at the LaPorte Chemical Complex, located in Texas?

A1: Yes. EPA conditionally approves the Equistar AMP request to implement NSPS subpart RRR for testing, monitoring, and recordkeeping provisions in lieu of complying with corresponding provisions of NSPS subpart NNN for specific distillation columns vent streams routed to unit flares without any by-pass lines. In order to ensure that affected vent streams are routed to appropriate control devices, Equistar LaPorte Chemical Complex facility is required to maintain a schematic diagram of the affected vent streams, collection system(s), fuel systems, control devices, and bypass systems as part of the initial report submitted in accordance with 40 CFR 60.705(b) of subpart RRR. EPA noted in its approval that the small vent and drain valves utilized by Equistar for maintenance events are not an exception under either NSPS subpart NNN or subpart RRR. Therefore, flow must be monitored during maintenance events at these locations in accordance with NSPS subpart RRR, because such components act as bypass valves during such events (i.e., flow is diverted away from the control device).

Abstract for [1200021]

Q1: Does EPA approve modifications to an Alternative Monitoring Plan (AMP) for a distillation column and associated flare to add flexibility of routing vent streams to other control equipment as backup to the flare (i.e., incinerator, boiler or process heater), and to implement NSPS subpart RRR testing, monitoring, and recordkeeping provisions in lieu of complying with corresponding provisions of NSPS subpart NNN for compliance with both subparts, for Equistar Chemicals (Equistar) at the LaPorte Chemical Complex, located in Texas?

A1: Yes. EPA conditionally approves the Equistar AMP request to modify an approved AMP for testing, monitoring, and recordkeeping provisions in NSPS subpart RRR in lieu of complying with corresponding provisions of NSPS subpart NNN for specific distillation columns vent streams when routed to unit flares and other backup control devices to the flare at the Equistar LaPorte Chemical Complex. The conditions of the original AMP approval also still apply and are specified in the EPA response letter.

Abstract for [M120014]

Q1: Does EPA approve modifying a prior approved Alternative Monitoring Plan (AMP), pertaining to parametric monitoring of the fluid catalytic cracking unit (FCCU) No. 3 wet gas scrubber (WGS) in lieu of monitoring opacity via continuous opacity monitoring system (COMS), due to moisture interference on opacity readings in the stack, at the Exon Mobil Refinery located in Baytown, Texas? Modification is necessary in order to allow nominal flow to a bypass stack during CO Boilers maintenance prior to plant turnaround.

A1: Yes. EPA will conditionally approve a modified AMP to allow nominal flow to the Bypass stack for the 4-month period necessary for maintenance on two of three CO Boilers. The plant turnaround is removing the Bypass Stack and the modified AMP will incorporate this temporary alteration for two of the three boilers. However, due to the number of other requested modifications to the prior approved AMP, EPA will address multiple issues associated with the prior approved AMP for both the FCCU No. 2 and the FCCU No. 3 WGS units. A new performance test is necessary to establish new Operating Parameter Limits (OPLs) for the WGS. Details pertaining to the modified AMP are included in the enclosure of the EPA response letter.

Abstract for [Z120002]

Q1: Are sour water streams managed upstream of a refinery sour water stripper at the Flint Hills Resources (FHR) East Refinery in Corpus Christi, Texas, subject to the Benzene Waste Operations NESHAP (BWOP), subpart FF?

A1: Yes. The application of 40 CFR 61.355 in NESHAP subpart FF does not change the point of generation, but rather changes the location where the owner or operator measures the benzene quantity of sour water streams for the purpose of determining the total annual benzene quantity from the facility. EPA determined that the FHR East Refinery must comply with the requirements of 40 CFR 61.342(c)-(h) for sour water streams managed upstream of a sour water stripper exit, based on the characteristics of the waste streams at their points of generation, assuming the facility's total annual benzene is calculated to be 10 megagrams per year (MG/yr) or greater, and the waste stream does not meet one of the exemptions of 40 CFR 61.340(c)-(d).

Abstract for [1200026]

Q1: Does EPA approve an Alternative Monitoring Plan (AMP) for wet gas scrubber (WGS) parametric monitoring in lieu of a continuous opacity monitoring system (COMS) on a fluidized catalytic cracking unit (FCCU) covered under NSPS subpart J for the Flint Hills Resources (FHR) facility located at the Corpus Christi complex, in Texas?

A1: Yes. Based on the particular WGS design, the process specific parameters chosen, and the performance test data, EPA approves the AMP to allow that no COM need be installed for the purpose of monitoring the opacity at the West Refinery FCCU flue gas scrubber exit. Instead, the parameters as detailed in the EPA response letter will be monitored and recorded.

Abstract for [M120016]

Q1: Does EPA approve a performance test waiver specific to particulate matter (PM) testing for certain source emissions and control equipment subject to MACT subpart TTTTTT for Secondary Nonferrous Metals Processing, at two of Gulf Reduction Corporation (GRC) facilities (i.e., Dust Manufacturing Division and Metal Division facilities) located in Houston, Texas, based on the premise of “identical” source emissions and control equipment located at the same facility?

A1: Yes. EPA conditionally approves a performance test waiver at each GRC facility for PM testing at specifics source emissions and control equipment on the premise that these are considered “identical” sources of emissions and control equipment at the facilities to demonstrate initial compliance with NESHAP subpart TTTTTT. However, PM test data for certain source units and their associated air pollution control equipment will be used in lieu of testing other “identical” emission sources for PM in order to demonstrate compliance with the standard. EPA conditional approval is based on the review and consideration of a timely submittal of a facility-specific test proposal for multiple identical sources (i.e., identical in terms of manufacturer, design and construction, operational parameters, and maintenance protocols), and provides a testing proposal that is technically sufficient and representative of worst-case emissions in demonstrating compliance at each facility, as detailed in the EPA response letter.

Abstract for [1200029]

Q1: Are a thermal oxidizer (TO) unit and a vapor combustor (VC) used as control devices for the off-gas vent stream from a hydrogen cyanide/acrylonitrile (HCN/ACRN) absorber column at the Lucite International, Inc. (Lucite) facility located in Beaumont, Texas, considered alternate control devices subject to 40 CFR 60.663(f) of NSPS subpart NNN?

A1: No. EPA has determined that the particular process units identified in the Lucite request are not considered “alternate control devices” under 40 CFR 60.663(f) of subpart NNN. Instead, we have determined that the TO is a “boiler” and that the VC is an “incinerator” as these terms are defined in 40 CFR 60.661, and are subject to the compliance testing, continuous monitoring, recordkeeping, and reporting requirements applicable to each such designated unit as specified in NSPS part 60 subpart NNN. Subsequently, 40 CFR 63.l10(d) of NESHAP subpart G should be consulted for ensuring proper implementation of any NSPS and NESHAP overlapping requirements.

Abstract for [1200034]

Q1: Is a thermal desorption system with thermal oxidizer for the treatment of diesel contaminated drill cuttings from deep natural wells, which is being constructed by Pollution Management, Inc. (PMI) in Beebe, Arkansas, subject to NSPS subpart CCCC?

A1: No. EPA determines that the PMI thermal desorption equipment is not subject to the NSPS subpart CCCC because it does not meet the definition of “Commercial and industrial solid waste incineration (CISWI) unit” in NSPS subpart CCCC published on December 1, 2000, at 65 FR 7533, which states that a CISWI unit “means any combustion device that combusts commercial and industrial waste . . . does not include air pollution control equipment or the stack”. In addition, the system designed to volatilize rather than combust since combustion will take place in a thermal oxidizer followed by a baghouse for PM emissions control, meets the definition of thermal desorption found in the U.S. EPA Engineering Bulletin on Thermal Desorption Treatment (Superfund, EPA/540/S-94/501, February, 1994), which states that “thermal desorption is not incineration, since the destruction of organic contaminants is not the desired result.” EPA notes that if the material, which the facility accepts, changes, you may be subject to additional regulations under the Resource Conservation and Recovery Act. In addition, the facility remains subject to all applicable State and Federal permitting requirements.

Abstract for [1200035]

Q1: Does EPA extend a prior approved alternative monitoring request for continuous parameter monitoring system (CPMS) in lieu of a continuous opacity monitoring system (COMS) required by 40 CFR 60.45(a) at the NO. 4 unit to all four steam electric generating units located at the Coal Fired Electrical Power Plant Public Service Company of New Mexico (PNM) San Juan Generating Station, subject to NSPS subpart D and A?

A1: Yes. EPA conditionally approves the PNM alternative monitoring request that includes use of each re-located COMS in each of the originally proposed positions, but with the addition of other monitored operational parameters, and your requested program for certification of your proposed CPMS for all four units in a scheduled environmental upgrade program. The approval of an AMP applies to Units No. 4, 3, 2, and 1, of which only Units No. 4, 3, and 1 are subject to NSPS part 60, subpart D, and of which Units No.4, 3, 2, and 1 are subject to applicable requirements of PNM's 2007 federally enforceable air permit. The terms and conditions for the CPMS certification test and on key CPMS data collection and analysis provisions, such as monitoring frequency, averaging time, and compliance levels for the monitored operational parameters, are detailed in the Enclosure to the EPA response letter. EPA notes that the New Mexico Environment Department (NMED) may use our AMP approval for each unit in the implementation of its federally enforceable state rules, applicable federally enforceable air permit conditions, and, at its discretion, its state enforceable Consent Decree for each unit, if it chooses to do so.

Abstract for [M120019]

Q1: Does EPA approve an Alternative Monitoring Plan (AMP) for site-specific monitoring parameters to be used in daily monitoring for a biological treatment system for Potlatch Forest Products (PFP) Corporation Cypress Bend Mill facility located in McGehee, Arkansas, subject to NESHAP subpart S applicable to the pulp and paper industry?

A1: Yes. EPA conditionally approves the PFP AMP request for site-specific monitoring parameters to be used in the daily monitoring of the open biological treatment system at your pulp and paper Cypress Bend Mill facility. To maintain compliance with the Title V permit, PFP must incorporate the site-specific parameters into its Title V permit for the Cypress Bend Mill facility.

Abstract for [1200036]

Q1: Does EPA approve an Alternative Monitoring Plan (AMP) request to allow use of continuous parameter monitoring system (CPMS) in lieu of a continuous opacity monitoring system (COMS) required by 40 CFR 60.45(a) at a steam electric generating unit subject to NSPS subpart D when firing lignite coal, owned by the American Electric Power (AEP) located at the Southwestern Electric Power Company's (SWEPCO) H.W. Pirkey Power Station (Pirkey), near Hallsville and Marshall, Texas?

A1: Yes. EPA conditionally approves the AEP AMP request to address an upgrade of the amount of Sulfur Dioxide (S02) removal planned for Unit l's Wet Flue Gas Desulfurization (WFGD) system resulting in increased SO2 and interference with the opacity readings taken by the stack-located COMS. This is based on AEP's description of the arrangement of the boiler's parallel duct-work and the relationship between the stack-located continuous opacity monitoring system (COMS) and the proposed continuous monitoring system (CMS), which has replaced the stack-located COMS. EPA accepts the use of the “combiner equation” to convert opacity data recorded at each of the duct-work COMS devices to equivalent stack opacity data, and accepts the use of induction fan current (in amps) to determine duct-work gas flow rates at each of the COMS devices. If AEP intends to pursue approval of a CPMS, AEP is required to meet specific criteria specified in the EPA response letter, including submittal of the proposed monitored operational parameters for the proposed CPMS to the EPA and the state for review, no later than 90 days prior to conducting a PM and Opacity performance test and prior to conducting a CPMS certification. If AEP does not opt to develop CPMS, AEP may alternatively propose to use a particulate matter continuous emission monitoring system (PM-CEMS). The terms and conditions for the CPMS certification test and on key CPMS data collection and analysis provisions, such as monitoring frequency, averaging time, and compliance levels for the monitored operational parameters, are detailed in the Enclosure to the EPA response letter.

Abstract for [1200037]

Q1: Does EPA approve an Alternative Monitoring Plan (AMP) for a distillation column and associated equipment to implement NSPS subpart RRR testing, monitoring, and recordkeeping provisions in lieu of complying with corresponding provisions of NSPS subpart NNN for flow monitoring requirements of Distillation Column C-5222 and associated equipment at Texmark Chemicals, Incorporated (Texmark) located in Galena Park, Texas?

A1: Yes. EPA conditionally approves the Texmark AMP request to implement NSPS subpart RRR for testing, monitoring, and recordkeeping provisions in lieu of complying with corresponding provisions of NSPS subpart NNN for Distillation Column C-5222 vent streams routed to unit flares without any by-pass lines. To ensure that the affected vent streams are routed to appropriate control devices, Texmark is required to maintain a schematic diagram required by 40 CFR 60.705(s) in its initial report to the jurisdictional State Agency, and must maintain a copy on site for the life of the equipment to ensure that affected vent streams are routed to a control device without bypass lines. EPA also approves the request to comply with the recordkeeping requirements of 40 CFR 705(c)(4) in lieu of the recordkeeping requirements of NSPS subpart NNN since these recordkeeping requirements correspond directly to those monitoring requirements to be implemented for the distillation vents under NSPS subpart RRR.

Abstract for [1200045]

Q1: Do NSPS subparts UUU and A apply to calciners and/or dryers used in the processing of kaolin and the production of a catalyst at the W.R. Grace Davison's Lake Charles facility, located in Calcasieu Parish, Louisiana?

A1: Yes. EPA determines that NSPS subpart UUU and A apply to kaolin processing and production facilities if commencement of construction, completion of modification, or completion of reconstruction of these facilities occurred after April 23, 1986, and they meet the definition of “mineral processing plant” at 40 CFR 60.731: It processes kaolin clay (a listed mineral); it has the ability to load more than fifty percent of the products mixed with listed minerals, either one at a time or in combination; and, it does not produce any listed minerals, but only processes one or more listed minerals.

Abstract for [1200050]

Q1: Does the particulate matter (PM) concentration limit in 40 CFR 60.254(b)(2) of NSPS subpart Y for mechanical vents exhausting emissions apply to certain buildings at the Duke Energy Cliffside Steam Station in North Carolina? Specifically, does the PM concentration limit apply to mechanical vents which are used for general ventilation on buildings which contain affected facilities.

A1: EPA determines that the PM concentration limit in 40 CFR 60.254(b)(2) does not apply to emissions from mechanical vents which are used for general ventilation from a building containing affected facilities.

Q2: Is a waiver request of the PM concentration performance testing requirement for a mechanical vent that collects emissions from the coal crushers at the Duke Energy Cliffside Steam Station acceptable if no visible emissions are detected over a one-hour period when EPA Method 9 readings are made at the stack exit?

A2: No. EPA determines that the Duke Energy request for a waiver of the requirement to conduct an initial performance test under provisions in 40 CFR 60.8(b)(4) is not justify since it would need to demonstrate compliance through other means that are acceptable. The difficulty associated with testing is not a factor that EPA considers in evaluating the request. 40 CFR 60.8(e) requires the owner or operator of an affected facility to provide performance testing facilities which include test ports, sampling platforms, safe access to the platform(s), and utilities needed for testing.

Abstract for [1200051]

Q: Is Henkel Corporation proposed request to derate the capacity of two boilers at its Enoree, South Carolina facility in order that they will no longer be subject to 40 CFR part 60, subpart Dc, acceptable? The proposal includes the replacement of the existing burner of each boiler with a new lower-rated burner to reduce the heat input capacity to 8.4 million Btu/hour.

A: EPA determines that Henkel Corporation proposed derate method complies with EPA's criteria on derates. An acceptable derate must consist of a permanent physical change which prevents the boiler from operating at a capacity greater than the derated value. The physical change cannot be easily undone, and a system shutdown must be required to make the change or to reverse it. Since the capacity of the boiler must be reduced to constitute an appropriate derate, changes which are made only to fuel feed systems are not acceptable. If the facility wants to increase the capacity of the boilers after they have been derated, a notification of the proposed modifications must be submitted to the EPA.

Abstract for [1200054]

Q1: Does EPA allow Waste Management of Illinois, Inc. (WMIL), as the permitted operator of the now-closed Settler's Hill Recycling and Disposal Facility and Midway Landfill in Batavia, Illinois, subject to 40 CFR part 60, subpart WWW, to conduct, to implement an alternate remedy consisting of installing a liquid and gas extraction trench and enhancing the landfill cap, and an alternative compliance schedule to address surface scan emissions exceedances that occurred during the 2011 annual surface emissions monitoring event that could not be corrected within the regulatory?

A1: EPA does not need to approve the new trench remedy and corresponding compliance timeline for locations designated as EX-3, 4, 7, 8, 9, as it follows the requirements of corrective action in NSPS subpart WWW at 40 CFR 60.755(c)(4) and will be performed within the 120 calendar day time frame requirement at 40 CFR 60.755(c)(4)(v). EPA approves the request for alternative remedy to the exceedances for locations designated as EX-2 and EX-6 via cap enhancement at the Midway Landfill facility such that the remedy eliminates methane exceedances at both EX-2 and EX-6. WMIL stated that the cap enhancement has been completed as of March 27, 2012, which is within 120 calendar days of the initial exceedance. EPA additionally approves the corresponding timeline for the requested alternative remedy because it matches the timeline required in 40 CFR 60.755(c)(4)(v).

Abstract for [1200055]

Q1: Does EPA allow Waste Management of Illinois, Inc. (WMIL), as the permitted operator of the now-closed Settler's Hill Recycling and Disposal Facility and Midway Landfill in Batavia, Illinois, subject to 40 CFR part 60, subpart WWW, to conduct the alternate remedies of installing a liquid and gas extraction trench and the enhancement of the landfill cap and corresponding compliance schedules for surface scan emissions exceedances that occurred during the March 2012 quarterly surface emissions monitoring event that could not be corrected within the regulatory?

A1: Yes. EPA conditionally approves WMIL's request for an alternative remedy, which includes the separation of the gas control and two collection systems serving the two landfills, upgrade of the blower and motor serving the Midway utility flare, and subsequent re-tuning of the wellfield to address the exceedances at locations EX-4, 5 and 10 of the Midway Landfill. EPA approves these alternative methods as they are consistent with alternative remedies suggested at 40 CFR 60.755(c)(4)(v) and the alternative timeline as it matches the 120 calendar day time frame provided by 40 CFR 60.755(c)(4)(v). WMIL must continue the quarterly monitoring of surface emissions until it can demonstrate no emission exceedances for three consecutive quarterly monitoring periods, as required in 40 CFR 60.756(f) of NSPS subpart WW.

Abstract for [1200060]

Q1: Does EPA approve Citgo Petroleum Corporation (Citgo) Alternative Monitoring Plan (AMP) under 40 CFR 60.13(i)(3) for monitoring a wet gas scrubber (WGS) on a refinery Fluid Catalytic Cracking Unit (FCCU), in lieu of a Continuous Opacity Monitoring System (COMS), to demonstrate compliance with the opacity limit under 40 CFR 60.102(a)(2) Citgo's Lake Charles Manufacturing Complex (LCMC) in Louisiana?

A1: Yes. EPA conditionally approves the Citgo AMP request since moisture in the FCCU exhaust from the WGS interfered with the ability of the COMS to take accurate readings, due to excessive water at the point of measurement. EPA granted final conditional approval of the AMP based on the three scrubber operating limits (OPLs). EPA also clarified that compliance demonstration for each OPL was to be based on a three hour, hourly rolling average basis.

Abstract for [1200061]

Q1: Does EPA approve the Conoco Phillips request to use an alternate performance specification (PS) and alternate span value for conducting relative accuracy checks (RATA) on the Ponca City Refinery East Plant Flare hydrogen sulfide (H2S) continuous emission monitoring system (CEMS) of the CEMS?

A1: No. EPA does not approve the request to use PS-9 in lieu of PS-7 as part of an Alternative RATA Protocol, since it is unacceptable to switch from a more stringent to less stringent PS for demonstrating acceptable performance of the H2S CEMS. Since Conoco Phillips did not provide the requested data, including historical measured flare vent stream H2S concentration data, and data on moisture content, types and expected concentrations of sulfur compounds besides H2S, and the expected sulfur dioxide concentration in the vent stream, and since the use of PS-7 and Method 15 provides sampling and calibration check alternatives to allow viable sampling and testing, EPA withdraws the previous approval issued to Conoco Philips on August 19, 2011, and disapproved the proposed Alternative RATA Protocol for future monitoring efforts.

Abstract for [1200063]

Q1: Source Environmental Services, Inc. (SES) requests a clarification from EPA on whether NSPS subpart Kb requires that all floating roof tanks to be degassed every time they are emptied?

A1: No. EPA determines that the term “completed empty” in NSPS subpart Kb does not mean that the tank must be degassed and dried each time it is completely emptied. The standard allows for the roof to rest on legs for a short period of time while the tank is being emptied and subsequently refilled. The EPA response letter references a determination to a similar question dated October 22, 1993, which is available on the ADI Web site. (See ADI number 9400015).

Q2: SES request a clarification from EPA on whether NSPS subpart Kb require all floating roof tanks to be inspected every time they are emptied?

A2: No. EPA determines that the final NSPS subpart Kb regulation does not require an inspection when a tank is emptied and then refilled, although such requirement was initially included in the proposed regulation.

Abstract for [M120022]

Q1: Does EPA approve a site-specific fuel analysis plan for a chemical process fuel gas stream for combustion in utility Boiler No. 15, burning natural gas and a chemical process gas routed from several on-site processes, subject to National Emission Standards for Hazardous Air Pollutants for Industrial, Commercial, and institutional Boilers and Process Heaters (40 CFR part 63, subpart DDDDD) located at the Eastman Chemical Company (Eastman), located in Longview, Texas?

A1: Yes. EPA evaluated your site-specific fuel analysis plan and approves the plan pursuant to 40 CFR 63.7521(f) in NESHAP subpart DDDDD.

Abstract for [1200065]

Q1: Does EPA approve an exemption in lieu of an Alternative Monitoring Plan (AMP) for combusting an off-gas vent stream from a heat transfer hot oil drum (D-703) as an inherently low-content sulfur stream under New Source Performance Standards (NSPS) for Refineries part 60 subpart J, at ExxonMobil Baytown Complex, Texas Refinery?

A1: Yes. EPA evaluated ExxonMobil's AMP request in light of changes made to NSPS subpart J on June 24, 2008 (73 FR 35866), and determined that the AMP request was no longer valid, because the vent streams now appear to meet one of the exemption criteria of 60.105(a)(4)(iv). Instead, EPA reviewed the information submitted as an application for exemption under 60.105(b)(1). Since the vent stream was demonstrated to be inherently low in sulfur according to 60.105(a)(4)(iv)(D), the fuel gas combustion devices did not need to meet the monitoring requirements of either 40 CFR 60.105(a)(3) or 60.105(a)(4). The exemption was conditionally approved based on the process operating parameters and monitoring data submitted by the company. The effective date of the exemption is the effective date of the rule change, June 24, 2008. The exemption determination should also be referenced and attached to the facility's new source review and Title V permit for federal enforceability.

Abstract for [1200066]

Q1: Does EPA approve an exemption in lieu of an Alternative Monitoring Plan (AMP) for combusting an off-gas vent stream from bonnet and spool vents associated with large motor operated valves (MOVs) as an inherently low-content sulfur stream under NSPS for Refineries part 60 subpart J, at ExxonMobil Baytown Complex, Texas Refinery?

A1: Yes. EPA evaluated ExxonMobil's AMP request in light of changes made to NSPS subpart J on June 24, 2008 (73 FR 35866), and determined that the AMP request was no longer valid, because the vent streams now appeared to meet one of the exemption criteria of 60.105(a)(4)(iv). Instead, EPA reviewed the information submitted as an application for exemption under 60.105(b)(1). Since the vent stream was demonstrated to be inherently low in sulfur according to 60.105(a)(4)(iv)(C), the fuel gas combustion device did not need to meet the monitoring requirements of either 40 CFR 60.105(a)(3) or 60.105(a)(4). The exemption was conditionally approved based on the process operating parameters and monitoring data submitted by the company. The effective date of the exemption is the effective date of the rule change, June 24, 2008. The exemption determination should also be referenced and attached to the facility's new source review and Title V permit for federal enforceability.

Abstract for [1200067]

Q1: Does EPA approve an exemption in lieu of an Alternative Monitoring Plan (AMP) be approved for combusting an off-gas vent stream from a caustic oxidation unit (COU) knock out drum (D-42) as an inherently low-content sulfur stream under New Source Performance Standards (NSPS) for Refineries part 60 subpart J, at ExxonMobil Baytown Complex, Texas Refinery?

A1: Yes. EPA evaluated the ExxonMobil AMP request in light of changes made to NSPS subpart J on June 24, 2008 (73 FR 35866), and determined that the AMP request was no longer valid, because the vent streams now appeared to meet one of the exemption criteria of 60.105(a)(4)(iv). Instead, EPA reviewed the information submitted as an application for exemption under 40 CFR 60.105(b)(1). Since the vent stream was demonstrated to be inherently low in sulfur according to 40 CFR 60.105(a)(4)(iv)(D), the fuel gas combustion device did not need to meet the monitoring requirements of either 40 CFR 60.105(a)(3) or 60.105(a)(4). The exemption was conditionally approved based on the process operating parameters and monitoring data submitted by the company. The effective date of the exemption is the effective date of the rule change, June 24, 2008. The exemption determination should also be referenced and attached to the facility's new source review and Title V permit for federal enforceability.

Abstract for [1200068]

Q1: Does EPA approve an exemption in lieu of an Alternative Monitoring Plan (AMP) be approved for combusting an off-gas vent stream from a loading rack vapor recovery unit knock out drum (V-201) at a thermal oxidizer (TC-301) as an inherently low-content sulfur stream under New Source Performance Standards (NSPS) for Refineries part 60 subpart J, at ExxonMobil Baytown Complex, Texas Refinery?

A1: Yes. EPA evaluated the ExxonMobil AMP request in light of changes made to NSPS subpart J on June 24, 2008 (73 FR 35866), and determined that the AMP request was no longer valid, because the vent streams now appeared to meet one of the exemption criteria of 40 CFR 60.105(a)(4)(iv). Instead, EPA reviewed the information submitted as an application for exemption under 40 CFR 60.105(b)(1). Since the vent stream was demonstrated to be inherently low in sulfur according to 40 CFR 60.105(a)(4)(iv)(D), the fuel gas combustion device did not need to meet the monitoring requirements of either 40 CFR 60.105(a)(3) or 40 CFR 60.105(a)(4). The exemption was conditionally approved based on the process operating parameters and monitoring data submitted by the company. The effective date of the exemption is the effective date of the rule change, June 24, 2008. The exemption determination should also be referenced and attached to the facility's new source review and Title V permit for federal enforceability.

Abstract for [1200069]

Q1: Does EPA approve an exemption in lieu of an Alternative Monitoring Plan (AMP) be approved for combusting an off-gas vent stream from a benzene recovery unit in a crude unit heater as an inherently low-content sulfur stream under New Source Performance Standards (NSPS) for Refineries part 60 subpart J at ExxonMobil Beaumont Complex, Texas Refinery?

A1: Yes. EPA evaluated the ExxonMobil AMP request in light of changes made to NSPS subpart J on June 24, 2008 (73 FR 35866), and determined that the AMP request was no longer valid, because the vent streams now appeared to meet one of the exemption criteria of 40 CFR 60.105(a)(4)(iv). Instead, EPA reviewed the information submitted as an application for exemption under 40 CFR 60.105(b)(1). Since the vent stream was demonstrated to be inherently low in sulfur according to 40 CFR 60.105(a)(4)(iv)(D), the fuel gas combustion device did not need to meet the monitoring requirements of either 40 CFR 60.105(a)(3) or 60.105(a)(4). The exemption was conditionally approved based on the process operating parameters and monitoring data submitted by the company. The effective date of the exemption is the effective date of the rule change, June 24, 2008. The exemption determination should also be referenced and attached to the facility's new source review and Title V permit for federal enforceability.

Abstract for [1200070]

Q1: Does EPA approve an Alternative Monitoring Plan (AMP) for combusting vapors inherently low-content sulfur stream from marine loading operations of marine vessels, under New Source Performance Standards (NSPS) for Refineries part 60 subpart J at ExxonMobil Beaumont Complex, Texas Refinery?

A1: EPA evaluated the ExxonMobil request in light of the June 24, 2008, changes to NSPS Subpart J (73 FR 35866), and determined that the AMP request is no longer necessary. The definition of fuel gas had been modified to specifically exclude vapors collected and combusted to comply with marine tank vessel loading provisions of MACT subpart Y at 40 CFR 63.562 or 63.651. Therefore, the fuel gas combustion devices do not need to meet the monitoring requirements of either 40 CFR 60.105(a)(3) or 60.105(a)(4).

Abstract for [M120023]

Q1: Does the NESHAP for Gasoline, subpart BBBBBB, applies to the Intergulf Strang Road Terminal (Intergulf) located in La Porte, Texas?

A1: No. EPA determined that NESHAP subpart BBBBBB does not apply to Intergulf since the individual gasoline blendstocks and other petroleum products handled at the Intergulf Strang Road Terminal meet the definition of transmix. Transmix is defined as a mixture of gasoline and other petroleum distillates that typically contain between 35 and 65 percent gasoline, and with higher concentrations, may have a Reid vapor pressure above the 27.6 kilopascals threshold in the definition of “gasoline”, as specified in 40 CFR 63.11100. Since transmix is not used as fuel for internal combustion engines, it does not meet the definition of gasoline as defined in 40 CFR 63.11100 and therefore does not trigger applicability of NESHAP BBBBBB.

Abstract for [1200071]

Q1: Does EPA approve an exemption be approved for combusting fuel gas streams from the Udex Process Unit as inherently low-content sulfur streams under New Source Performance Standards (NSPS) for Refineries part 60 subpart J, at Marathon Petroleum Company LLC, (Marathon), located in Texas City, Texas?

A1: Yes. EPA evaluated the Marathon AMP request in light of changes made to NSPS subpart J on June 24, 2008 (73 FR 35866), and determined that the fuel gas streams appeared to meet exemption criteria of 40 CFR 60.105(a)(4)(iv)(D). As such, the fuel gas combustion device and the Main Plant Flare, do not need to meet the monitoring requirements of either 40 CFR 60.105(a)(3) or 60.105(a)(4) for these streams. The effective date of the exemption is October 28, 2010, the date the application for exemption was submitted. If the refinery conditions change and it is determined that any of the streams are no longer exempt, continuous monitoring shall begin within 15 days of the change in accordance with 40 CFR 60.105(a)(4)(iv). The exemption determination should also be referenced and attached to the facility's new source review and Title V permit for federal enforceability.

Abstract for [M120024]

Q1: The Texas Commission on Environmental Quality (TCEQ) request an EPA interpretation of the recordkeeping requirements at 40 CFR 63.654 of NESHAP subpart G and 40 CFR 60.115b of NSPS subpart Kb, as it applies to a regulated entity with several external floating roof storage tanks subject to these requirements. One of the requirements the regulated entity must fulfill is the maintenance of records of raw data obtained in the inspection of storage tank. Should the regulated entity keep the original field notes on site, or may it discard them after transferring the data to the electronic form?

A1: EPA determines that any original field notes should be kept on site. The transferring of raw data from field notes into an electronic database can introduce additional error when data transcription and entry occur, and therefore destroying the field data sheets is not an acceptable practice. This determination is consistent with previously EPA published guidance that addresses air pollution measurement systems and the quality assurance procedures associated with such systems. The Quality Assurance Handbook for Air Pollution Measurement Systems indicates that the original field data sheets must be preserved whenever any sort of emissions sampling or equipment testing, such as measuring seal gaps in a storage tank, is performed.

Abstract for [1200072]

Q1: Does EPA approve an Alternative Monitoring Plan (AMP) for monitoring hydrogen sulfide (H2S) in lieu of installing a continuous emission monitoring system (CEMS) at a refinery loading dock flare covered under NSPS subpart J at the TOTAL Petrochemicals USA Inc., Port Arthur Refinery (TOTAL Refiner), Texas?

A1: No. EPA does not approve TOTAL Petrochemicals AMP request. This determination is made after several attempts over the past few years to allow the company adequate time to submit sufficient process information about its operation and characteristics of the loading dock vent gas streams, and after subsequently determining that the company could not ascertain whether or not the AMP request was still necessary.

Abstract for [1200073]

Q1: Does EPA approve an exemption in lieu of an Alternative Monitoring Plan (AMP) for combusting vent streams from a truck and railcar loading rack as an inherently low-content sulfur stream under New Source Performance Standards (NSPS) for Refineries part 60 subpart J, for the Valero Three Rivers Refinery (Valero) facility in Live Oak County, Texas?

A1: Yes. EPA evaluated the Valero AMP request in light of changes made to NSPS subpart J on June 24, 2008 (73 FR 35866), and determined that the AMP request was no longer necessary, because the pilot and assist gas vent streams appeared to meet exemption criteria of 40 CFR 60.105(a)(4)(iv)(A), the refined benzene, gasoline and diesel vapors appeared to meet the criteria of 40 CFR 60.105(a)(4)(iv)(B), and the light cycle oil (LCO) vapors appeared to meet the criteria of 40 CFR 60.105(a)(4)(iv)(D). As such, the fuel gas combustion device does not need to meet the monitoring requirements of either 40 CFR 60.105(a)(3) or 60.105(a)(4) for these streams. The effective date of the exemption is June 24, 2008. If refinery operations change such that Valero determines that the stream is no longer exempt, continuous monitoring shall begin within 15 days of the change in accordance with 40 CFR 60.105(a)(4)(iv). For the LCO stream exempted under 40 CFR 60.105(a)(4)(iv)(D), instead refer to the procedures in 40 CFR 60.105(b)(3)(i-iii) if changes in operating conditions or stream composition occur.

Abstract for [1200076]

Q1: Does EPA approve exemptions in lieu of two approved Alternative Monitoring Plans (AMPs) for vent streams from Steam Methane Reformer Pressure Swing Adsorption Off-Gas and Catalytic Reformer Unit Fuel Gas Drums, as an inherently low-content sulfur stream under New Source Performance Standards (NSPS) for Refineries, part 60, subpart J, at Valero Refining Corpus Christi West Plant (Valero CC West) in Nueces County, Texas?

A1: Yes. EPA evaluated Valero CC West request in light of changes made to NSPS subpart J on June 24, 2008 (73 FR 35866), and determined that the AMPs are no longer necessary for the specified fuel gas streams since the vent streams are considered inherently low in sulfur since they are produced in process units intolerant to sulfur contamination and meet the exemption requirement of 40 CFR 60.l05(a)(4)(iv)(C). Therefore, the fuel gas combustion devices do not need to meet the monitoring requirements of either 40 CFR 60.105(a)(3) or 60.105(a)(4).

Abstract for [1200077]

Q1: Does EPA approve an exemption in lieu of an Alternative Monitoring Plan (AMP) for combusting a Sulfur Collection Header (39FA1006) fuel gas stream from the C-Train Sulfur Recovery Unit (SRU) under New Source Performance Standards (NSPS) for Refineries part 60 subpart J, at Valero Refining Texas, Houston Plant (Valero Houston), Houston, Texas?

A1: Yes. EPA evaluated the Valero Houston AMP request in light of changes included in the final amendment to NSPS subpart J on June 24, 2008 (73 FR 35840) and determined that an AMP is not needed since the rule requirements for the Sulfur Collection Header (39FA1006) fuel gas stream from the C-Train SRU are being met. The C-Train SRU is a Claus sulfur recovery plant with oxidation control systems followed by incineration, therefore the fuel gas stream is subject to the continuous monitoring required by 40 CFR 60.105(a)(5).

Abstract for [1200078]

Q1: Does EPA approve an exemption in lieu of an Alternative Monitoring Plan (AMP) for combusting Sulfur Storage Tank (39FB1001) and Sulfur Loading Arm fuel gas streams from the C-Train Sulfur Recovery Unit (SRU) under New Source Performance Standards (NSPS) for Refineries part 60 subpart J, at Valero Refining Texas, Houston Plant (Valero Houston), Houston, Texas?

A1: Yes. EPA evaluated the Valero Houston AMP request in light of changes included in the final amendment to NSPS subpart J on June 24, 2008 (73 FR 35840) and determined that an AMP is not necessary for the specified fuel gas streams since the NSPS subpart J requirements for the Sulfur Storage Tank (39FB1001) and Sulfur Loading Arm fuel gas streams from the C-Train SRU are being met. The C-Train SRU is a Claus sulfur recovery plant with oxidation control systems followed by incineration, therefore the fuel gas streams are subject to the continuous monitoring required by 40 CFR 60.105(a)(5).

Abstract for [1200079]

Q1: Does EPA approve an exemption in lieu of an Alternative Monitoring Plan (AMP) be approved for combusting Sulfur Pit (46AD6202) and Sulfur Loading Arm (46LO6201) fuel gas streams from the B-Train Sulfur Recovery Unit (SRU) under New Source Performance Standards (NSPS) for Refineries part 60 subpart J, at Valero Refining Texas, Houston Plant (Valero Houston), Houston, Texas?

A1: Yes. EPA evaluated the Valero Houston AMP request in light of changes included in the final amendment to NSPS subpart J on June 24, 2008 (73 FR 35840) and determined that an AMP is not necessary since the NSPS subpart J requirements for the Sulfur Pit (46AD6202) and Sulfur Loading Arm (46LO6201) fuel gas streams from the B-Train are being met. The B-Train SRU is a Claus sulfur recovery plant with oxidation control systems followed by incineration, therefore the fuel gas streams are subject to the continuous monitoring required by 40 CFR 60.105(a)(5) and not subject to the monitoring requirements of 40 CFR 60.105(a)(3) or 60.101(a)(4).

Abstract for [1200081]

Q1: Does EPA approve an exemption in lieu of an Alternative Monitoring Plan (AMP) for combusting a vent stream from a hydrogen plant pressure swing absorber (PSA) as an inherently low-content sulfur stream under New Source Performance Standards (NSPS) for Refineries part 60 subpart J, at Western Refining Company, L.P. (Western Refining) Hydrogen Plant located in El Paso, Texas?

A1: Yes. EPA evaluated the Western Refining AMP request in light of changes made to NSPS subpart J on June 24, 2008 (73 FR 35866), and determined that the AMP request was no longer necessary, because the refinery's Hydrogen Plant PSA vent gas stream is inherently low in sulfur and therefore appeared to meet the exemption criteria of 40 CFR 60.105(a)(4)(iv)(C), and it is combusted in the steam reformer heater and Rheniformer flare. As such, the fuel gas combustion devices do not need to meet the monitoring requirements of either 40 CFR 60.105(a)(3) or 60.105(a)(4) for this stream. The effective date of the exemption is June 24, 2008. If refinery operations change such that Western Refinery determines that the stream is no longer exempt, continuous monitoring must begin within 15 days of the change in accordance with 40 CFR 60.105(a)(4)(iv).

Abstract for [1200084]

Q1: Does EPA approve a request for an alternative monitoring procedure (AMP) for two new proposed kilns (known collectively as EU 056) located at the 3M Cottage Grove facility in Minnesota (3M), since it is expected that the wet scrubbing system for EU 056 will achieve a particulate matter (PM) emission rate an order of magnitude below the emission rate required under NSPS subpart UUU Standards of Performance for Calciners and Dryers in Mineral Industries, and based on performance testing conducted on a similar system?

A1: Yes. EPA approves the 3M AMP request since EPA believes that monitoring and recording the scrubbing liquid pressure is a reasonable alternative to monitoring and recording the pressure loss of the gas through the scrubber required in 40 CFR 60.734(d) of subpart UUU, and that it is similar to and based on previous EPA AMP approvals. EPA agrees with the 3M recommendation that a deviation is any instance where the scrubbing liquid supply pressure is more than 20 percent below the average value determined, in accordance with 40 CFR 60.736(c), during a recently-conducted performance test of EU 056 that demonstrates compliance with the PM standard.

Abstract for [1200085]

Q1: Is EU 028, a mixer/dryer that processes a very wet (greater than 50 percent moisture) alumina slurry located significantly upstream of kilns, subject to NSPS subpart UUU, at the 3M facility in Cottage Grove, Minnesota?

A1: No. EPA has determined that the mixer/dryer EU 028 is not subject to NSPS subpart UUU requirements because it does not meet the definition of mineral processing plant under the rule since it processes alumina slurry that contains less than 50 percent alumina.

Abstract for [M120025]

Q1: Does EPA approve an alternative monitoring plan (AMP) for use of quarterly comparative temperature monitoring in lieu of the quarterly calibration verification requirements for thermocouples, which are located below the catalyst bed in each of two oxidizers required under the Paper and Other Web Coating NESHAP, at the 3M facility in Cottage Grove, Minnesota?

A1: Yes. EPA approves of the use of quarterly comparison of thermocouple temperature readings in lieu of the calibration verification requirements in 40 CFR 63.3350(e)(9). EPA believes monitoring and recording the scrubbing liquid pressure is a reasonable alternative to monitoring and recording the pressure loss of the gas through the scrubber. EPA also concurs with the 3M recommendation that a deviation is any instance where the scrubbing liquid supply pressure is more than 20 percent below the average value determined, in accordance with 40 CFR 60.736(c), during a recently-conducted performance test of EU 056 that demonstrates compliance with the PM standard.

Abstract for [M120028]

Q1: Does EPA approve an alternative monitoring plan (AMP) for use of an acoustic monitor capable of detecting the presence of a flare pilot flame in lieu of a thermocouple for demonstrating compliance with the NSPS subpart A, and NESHAP Subparts A and CC at Utility Flare 84ME-27 at the Flint Hills Resources—Pine Bend Refinery (Flint Refinery)?

A1: Yes. EPA approves the Flint Refinery AMP request based on the information provided, including a noise survey at the site. EPA has determined that the acoustic monitor is appropriate for detecting the presence of a flare pilot flame given the ambient background noise magnitude and profile created by nearby operating equipment.

Abstract for [M120030]

Q1: Is a metal etching process using chromic acid and an electrical current, though in the reverse of the typical plating process (i.e., with the metal part serving as the anode), to be installed at the Teikuro Corporation Springfield facility in Ohio (Teikuro), subject to the NESHAP for Area Source Standards for Plating and Polishing Operations, subpart WWWWWW?

A1: Yes. EPA determines that Teikuro planned etching process meets the definition of electropolishing in 40 CFR 63.11504(a)(vi) because the process you described involves an electrolytic process with the metal part serving as the anode and a bath containing chromium. Therefore, the planned etching process is required to meet the NESHAP subpart WWWWWW rule requirements.

Abstract for [1200089]

Q1: Does EPA approve an Alternative Monitoring Plan (AMP) for combusting a Sulfur Collection Header (39FA1006) fuel gas stream from the C-Train Sulfur Recovery Unit (SRU) under New Source Performance Standards (NSPS) for Refineries part 60 subpart J, at Valero Refining Texas, Houston Plant (Valero Houston), Houston, Texas?

A1: Yes. EPA evaluated the Valero Houston AMP request in light of changes included in the final amendment to NSPS subpart J on June 24, 2008 (73 FR 35840) and determined that an AMP is not necessary since the NSPS subpart J requirements for combusting a Sulfur Collection Header (39FA1006) fuel gas stream from the C-Train SRU are being met. The stream is combusted in the SRU Tail Gas Incinerator 39CB2001, which is equipped with continuous monitoring required by 40 CFR 60.105(a)(5). The C-Train SRU is a Claus sulfur recovery plant with oxidation control systems followed by incineration, therefore, the fuel gas stream is subject to the continuous monitoring required by 40 CFR 60.105(a)(5) and not subject to the monitoring requirements of 40 CFR 60.105(a)(3) or 60.101(a)(4).

Abstract for [M120031]

Q1: Does EPA approve Montana-Dakota Utilities Company request for confirmation of status of R. M. Heskett Station Units 1 and 2 in “unit designed for low rank virgin coal” subcategory under the Mercury and Air Toxics (MATS) NESHAP rule, subpart UUUUU?

A1: Yes. Based on review with the Office of Air Quality Planning and Standards and the MATS rule applicable to coal and oil-fired electric utility steam generating units, EPA confirmed the referenced units are in the subcategory.

Abstract for [M120032]

Q: Can, and under what conditions may, a secondary aluminum production reverberatory furnace change its classification from Group 1 to Group 2 under the Secondary Aluminum NESHAP subpart RRR rule, at the Kalamazoo facility located in Michigan?

A: Yes. EPA concludes that the Kalamazoo facility may change the furnace classification upon approval by the regulatory authority and upon meeting the conditions established in the EPA response letter, consistent with NESHAP subpart RRR requirements. The furnace must be operated within one (and only one) of the three proposed operating modes for the entirety of a given melt cycle, which are: Group 1 furnace with add-on air pollution control devices; Group 1 furnace without add-on air pollution control devices; and Group 2 furnace.

Abstract for [1200091]

Q: Intertek Testing Services (Intertek) request guidance on whether EPA allows certification testing for wood heating appliances subject to the New Source Performance Standard for New Residential Wood Heating Appliances, NSPS subpart AAA, to be conducted at manufacturing facilities?

A: EPA clarifies to Intertek that certification testing for compliance with the NSPS subpart AAA may be conducted at a manufacturing facility, provided staff from EPA accredited laboratories conduct the testing and follow the offsite testing guidelines testing guidelines included as an attachment to the EPA response letter. Only equipment purchased, calibrated and used by the EPA accredited laboratory may be used to conduct the testing.

Abstract for [Z120004]

Q: Does EPA grant Magellan Pipeline Company (Magellan) a one-year compliance extension from the Reciprocating Internal Combustion Engines (RICE) NESHAP regulations at 40 CFR part 63 subpart ZZZZ to install emission controls at 26 diesel RICE located in Oklahoma, Missouri, Kansas, Nebraska, Iowa, Minnesota, South Dakota, and North Dakota?

A: Yes. Per 40 CFR part 63(i)(4) and (6), EPA extends the compliance date from May 3, 2013 to May 3, 2014 to allow Magellan Pipeline additional time to install emission controls at 26 diesel RICE and thereby comply with the RICE NESHAP regulations at 40 CFR part 63, subpart ZZZZ. The extension is granted under the conditions, which support compliance with the RICE NESHAP regulations and are outlined in the EPA response letter.

Abstract for [1200092]

Q: Does EPA grant a National Security Exemption (NSE) for 240 Cummins Model 6T8.3-G2 diesel engines to be used at an Intercontinental Ballistic Missile (ICBM) facility at W. E Air Force Base?

A: Yes. EPA grants the NSE for the 240 Cummins Model 6T8.3-G2 diesel engines. These engines will provide backup and emergency power to the ICBM Minuteman III Launch Facilities (LFs) and Missile Alert Facilities (MAFs) in the event of commercial power loss. The NSE is granted because the electronic fuel controls used by these engines to comply with the Compression Ignition Reciprocating Internal Combustion Engine (RICE) regulations at 40 CFR part 60, subpart IIII are susceptible to electromagnetic pulse and shock which may occur during nuclear attack under wartime conditions and, therefore, cannot be used in this application.

Abstract for [WDS-145]

Q: Does EPA approve the alternative testing request to allow sources subject to the New Source Performance Standard for New Residential Wood Heaters at 40 CFR part 60, subpart AAA, to use the Canadian test protocol CSA B415, to determine thermal energy efficiency ratings for wood stoves and pellet stoves per the guidelines at 40 CFR part 60.636(i)(3) in lieu of the default efficiency ratings (63 percent for noncatalytic wood heaters, 72 percent for catalytic wood heaters, and 78 percent for pellet stoves)?

A: Yes. EPA approves the alternative testing for manufacturers of wood heaters and pellets to use CSA B415 to determine thermal efficiency ratings for compliance with 40 CFR part 60, subpart AAA. The CSA B415 testing must be conducted by an EPA accredited laboratory and use the higher heating value of the fuel.

Dated: April 17, 2013.
Lisa Lund,
Director, Office of Compliance.

[FR Doc. 2013-11204 Filed 5-9-13; 8:45 am]

BILLING CODE 6560-50-P